DEPARTMENT OF THE INTERIOR

Bureau of Land Management

[NV-050-5853-EU]

Notice of Realty Action: Competitive Sale of Public Lands in Clark County, NV

AGENCY: Bureau of Land Management, Interior.

ACTION: The following lands have been designated for disposal under Public Law 105-263, the Southern Nevada Public Land Management Act of 1998 (112 Stat. 2343); they will be sold competitively in accordance with section 203 and section 209 of the Federal Land Policy and Management Act of 1976 (90 Stat. 2750, 43 U.S.C. 1713 and 1719) at not less than the appraised fair market value (FMV).

Mount Diablo Meridian, Nevada

T. 20 S., R. 59 E.,

Sec. 1, NE¼NW¼SW¼, E½SE¼NW¼SW¼, E½E½SW¼SW¼, W½NW¼SE¼SW¼, W½SE¼SW¼SE¼;

Sec. 12, W½NW¼NE¼NE¼, W½NE¼NW¼NE¼, NW¼SE¼NW¼, W½SW¼SE¼NW¼, E½SW¼NE¼SW¼, W½SE¼NE¼SW¼, SE¼SE¼NW¼.

T. 19 S., R. 60 E.,

Sec. 18, Lots 5, 6, 9, 11, 17, W½NW¼NE¼NW¼, E½NW¼SE¼NW¼, E½SE¼SE¼NW¼.

T. 22 S., R. 60 E.,

Sec. 13, SW¼NE¼SE¼NE¼;

Sec. 14, SW¼NE¼NE¼SW¼, W½SW¼SW¼NW¼SE¼, NW¼NE¼NW¼SE¼, SE¼NE¼NW¼SE¼, NW¼NW¼NE¼SE¼;

Sec. 15, N½NE¼NE¼NE¼SW¼, S½NE¼NE¼NE¼SW¼, SE¼NE¼NE¼SW¼, E½SE¼SE¼NE¼;

Sec. 18, SE¼SW¼SE¼;

Sec. 20, N½NW¼SE¼SW¼NE¼, S½NE¼NE¼NW¼, SE¼NW¼NE¼NW¼;

Sec. 23, NE¼NE¼SE¼NW¼;

Sec. 24, SE¼SW¼NE¼NE¼, SW¼SE¼NE¼NE¼;

Sec. 26, E½NW¼NW¼SE¼, W½SW¼NW¼SE¼, NW¼NE¼SE¼, W½SW¼NE¼SE¼.

T. 22 S., R. 61 E.,

Sec. 28, Lots 65, 66;

Sec. 29, SE¼SE¼SW¼NE¼, W½NE¼SW¼SE¼, E½NE¼NW¼SW¼SE¼, NE¼SE¼SW¼SE¼;

Sec. 33, SW¼SW¼NW¼NE¼, NW¼NW¼SW¼NE¼.

Totaling 216.25 gross acres.

In addition to the lands described herein, parcels that have been published in a previous Notice of Realty Action (NORA), and were previously offered but did not sell, may be re-offered at this sale.

When the land is sold, conveyance of the locatable mineral interests will occur simultaneously with the sale of the land. The locatable mineral interests being offered have no known mineral value. Acceptance of a sale offer will constitute an application for conveyance of those mineral interests. In conjunction with the final payment, the applicant will be required to pay a $50.00 non-refundable filing fee for processing the conveyance of the locatable mineral interests.

The terms and conditions applicable to the sale are as follows:

All Parcels Subject to the Following

1. All leaseable and saleable mineral deposits are reserved on land sold; permittees, licensees, and lessees retain the right to prospect for, mine, and remove the minerals owned by the United States under applicable law and any regulations that the Secretary of the Interior may prescribe, including all necessary access and exit rights.

2. A right-of-way is reserved for ditches and canals constructed by authority of the United States under the Act of August 30, 1890 (43 U.S.C. 945).

3. All land parcels are subject to all valid existing rights. Parcels may also be subject to applications received prior to publication of this Notice if processing the application would have no adverse affect on the appraised FMV. Encumbrances of record are available for review during business hours, 7:30 AM to 4:15 PM, PDT, Monday through Friday, at the Bureau of Land Management, Las Vegas Field Office, 4701 North Torrey Pines Drive, Las Vegas, NV.

4. All land parcels are subject to reservations for roads, public utilities and flood control purposes, both existing and proposed, in accordance with the local governing entities' Transportation Plans.

5. All purchasers/patentees, by accepting a patent, agree to indemnify, defend, and hold the United States harmless from any costs, damages, claims, causes of action, penalties, fines, liabilities, and judgements of any kind or nature arising from the past, present, and future acts or omissions of the patentee or their employees, agents, contractors, or lessees, or any third-party, arising out of or in connection with the patentee's use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of federal, state, and local laws and regulations that are now or may in the future become, applicable to the real property; (2) Judgements, claims or demands of any kind assessed against the United States; (3) Costs, expenses, or damages of any kind incurred by the United States; (4) Other releases or threatened releases of solid or hazardous waste(s) and/or hazardous substances(s), as defined by federal or state environmental laws; off, on, into or under land, property and other interests of the United States; (5) Other activities by which solids or hazardous substances or wastes, as defined by federal and state environmental laws are generated, released, stored, used or otherwise disposed of on the patented real property, and any cleanup response, remedial action or other actions related in any manner to said solid or hazardous substances or wastes; or (6) Natural resource damages as defined by federal and state law. This covenant shall be construed as running with the patented real property and may be enforced by the United States in a court of competent jurisdiction.

Maps delineating the individual sale parcels will be available for public review at the BLM Las Vegas Field Office on or about February 14, 2002. Appraisals for each parcel will be available for public review at the Las Vegas Field Office on or about March 14, 2002.

Each parcel will be offered by sealed bid, and at oral auction. All sealed bids must be received at the BLM Las Vegas Field Office (LVFO), 4701 N. Torrey Pines Drive, Las Vegas, NV 89130, no later than 4:15 PM, PDT, May 10, 2002. Sealed bid envelopes must be marked on the lower front left corner with the parcel number and sale date. Bids must be for not less than the appraised FMV and a separate bid must be submitted for each parcel.

Each sealed bid shall be accompanied by a certified check, money order, bank draft, or cashier's check made payable to the Bureau of Land Management, for not less than 10 percent of the amount bid.

The highest qualified sealed bid for each parcel will become the starting bid for oral bidding. If no sealed bids are received, oral bidding will begin at the appraised FMV.

All parcels will be offered for competitive sale by oral auction beginning at 10:00 AM, PDT, May 14, 2002, at the Clark County Commission Chambers, Clark County Government Center, 500 S. Grand Central Parkway, Las Vegas, Nevada. Registration for oral bidding will begin at 8:30 AM the day of sale and will continue throughout the auction. All oral bidders are required to register.

The highest qualifying bid for any parcel, whether sealed or oral, will be declared the high bid. The apparent high bidder, if an oral bidder, must submit the required bid deposit immediately following the close of the sale in the form of cash, personal check, bank draft, cashiers check, money order or any combination thereof, made payable to the Bureau of Land Management, for not less than 20 percent of the amount bid.

The remainder of the full bid price, whether sealed or oral, must be paid within 180 calendar days of the sale date. Failure to pay the full price within the 180 days will disqualify the apparent high bidder and cause the entire bid deposit to be forfeited to the BLM. Unsold parcels may be offered on the Internet beginning on or about May 28, 2002. Internet auction procedures will also be available at www.auctionrp.com at that time. If unsold on the Internet, parcels may be offered at future auctions without additional legal notice. Upon publication of this notice and until the completion of the sale, the BLM is no longer accepting land use applications affecting any parcel being offered for sale, including parcels being offered for sale that have been published in a previous Notice of Realty Action. However, land use applications may be considered after the completion of the sale within parcels that are not sold through sealed, oral, or on-line Internet auction procedures.

Federal law requires bidders to be U.S. citizens 18 years of age or older; a corporation subject to the laws of any State or of the United States; a State, State instrumentality, or political subdivision authorized to hold property; or an entity including, but not limited to, associations or partnerships capable of holding property or interests therein under the law of the State of Nevada. Certification of qualification, including citizenship or corporation or partnership, must accompany the bid deposit.

In order to determine the fair market value of the subject public lands through appraisal, certain assumptions have been made of the attributes and limitations of the lands and potential effects of local regulations and policies on potential future land uses. Through publication of this notice, the Bureau of Land Management gives notice that these assumptions may not be endorsed or approved by units of local government. Furthermore, no warranty of any kind shall be given or implied by the United States as to the potential uses of the lands offered for sale, and conveyance of the subject lands will not be on a contingency basis. It is the buyers' responsibility to be aware of all applicable local government policies and regulations that would affect the subject lands. It is also the buyers' responsibility to be aware of existing or projected use of nearby properties. When conveyed out of federal ownership, the lands will be subject to any applicable reviews and approvals by the respective unit of local government for proposed future uses, and any such reviews and approvals would be the responsibility of the buyer. Any land lacking access from a public road or highway will be conveyed as such, and future access acquisition will be the responsibility of the buyer.

Detailed information concerning the sale, including the reservations, sale procedures and conditions, planning and environmental documents is available for review at the Bureau of Land Management, Las Vegas Field Office, 4701 N. Torrey Pines Drive, Las Vegas, NV 89130, or by calling (702) 515-5114. Much of this information will also be available on the Internet at http://propdisp.gsa.gov. Click on NV for Nevada.

For a period of 45 days from the date of publication of this notice in the Federal Register, the general public and interested parties may submit comments to the Field Manager, Las Vegas Field Office, 4701 N. Torrey Pines Drive, Las Vegas, Nevada 89130. Any adverse comments will be reviewed by the State Director, who may sustain, vacate, or modify this realty action in whole or in part. In the absence of any adverse comments, this realty action will become the final determination of the Department of Interior. The Bureau of Land Management may accept or reject any or all offers, or withdraw any land or interest in the land from sale, if, in the opinion of the authorized officer, consummation of the sale would not be fully consistent with FLPMA or other applicable laws or is determined to not be in the public interest. Any comments received during this process, as well as the commentor's name and address, will be available to the public in the administrative record and/or pursuant to a Freedom of Information Act request. You may indicate for the record that you do not wish your name and/or address be made available to the public. Any determination by the Bureau of Land Management to release or withhold the names and/or addresses of those who comment will be made on a case-by-case basis. A commentor's request to have their name and/or address withheld from public release will be honored to the extent permissible by law.

Lands will not be offered for sale until at least 60 days after the date of publication of this notice in the Federal Register.

Dated: February 6, 2002.
Mark T. Morse,
Field Manager.

[FR Doc. 02-6083 Filed 3-12-02; 8:45 am]

BILLING CODE 4310-HC-P